ENVIRONMENTAL PROTECTION AGENCY

[FRL-7540-9]

Notice of Tentative Approval and Solicitation of Request for a Public Hearing for Public Water System Supervision Program Revision for the Commonwealth of Pennsylvania

AGENCY: Environmental Protection Agency (EPA).

ACTION: Notice of tentative approval and Solicitation of Requests for a Public Hearing.

SUMMARY: Notice is hereby given in accordance with the provision of section 1413 of the Safe Drinking Water Act as amended, and the National Primary Drinking Water Regulations Implementation that the Commonwealth of Pennsylvania is revising its approved Public Water System Supervision Program. Pennsylvania has adopted a Lead and Copper Rule (LCR) to control lead and copper in drinking water, Lead and Copper Rule Minor Revisions (LCRMR) to streamline and reduce reporting burden, a Public Notification (PN) Rule for public water systems to notify their customers when they violate EPA or state drinking water standards, and a Consumer Confidence Report (CCR) Rule that requires water suppliers to provide annual reports on the quality of the drinking water supplied to their customers. This revision also includes minor revisions to other drinking water rules.

EPA has determined that these revisions are no less stringent than the corresponding Federal regulations aside from two minor inconsistencies in the Lead and Copper regulations. The two items concern the requirement to include the location of each site where samples are taken and the criteria under which each site was selected for the system's sampling pool as part of the results reported to the State in the LCR. EPA does not believe that these minor inconsistencies affect compliance with the Federal regulations. They are being addressed through program implementation while the Department of Environmental Protection corrects the deficiencies in its regulations. Therefore, EPA is taking action to tentatively approve these program revisions. All interested parties are invited to submit written comments on this determination and may request a public hearing.

DATES: Comments or a request for a public hearing must be submitted by September 5, 2003. This determination shall become effective on September 5, 2003 if no timely and appropriate request for a hearing is received and the Regional Administrator does not elect on his own to hold a hearing, and if no comments are received which cause EPA to modify its tentative approval.

ADDRESSES: Comments or a request for a public hearing must be submitted to the U.S. Environmental Protection Agency Region III, 1650 Arch Street, Philadelphia, PA 19103-2029. All documents relating to this determination are available for inspection between the hours of 8 a.m. and 4:30 p.m., Monday through Friday, at the following offices:

• Drinking Water Branch, Water Protection Division, U.S. Environmental Protection Agency Region III, 1650 Arch Street, Philadelphia, PA 19103-2029.

• Pennsylvania Department of Environmental Protection, Bureau of Water Supply and Wastewater Management, 11th Floor Rachael Carson State Office Building Harrisburg, 400 Market Street, Harrisburg, PA 17105-8467.

FOR FURTHER INFORMATION CONTACT: Nick Tymchenko, Drinking Water Branch at the Philadelphia address given above; telephone (215) 814-2022 or fax (215) 814-2318.

SUPPLEMENTARY INFORMATION: All interested parties are invited to submit written comments on this determination and may request a public hearing. All comments will be considered, and, if necessary, EPA will issue a response. Frivolous or insubstantial requests for a hearing may be denied by the Regional Administrator. However, if a substantial request for a public hearing is made by September 5, 2003, a public hearing will be held. A request for public hearing shall include the following: (1) The name, address, and telephone number of the individual, organization, or other entity requesting a hearing; (2) a brief statement of the requesting person's interest in the Regional Administrator's determination and of information that the requesting person intends to submit at such a hearing; and (3) the signature of the individual making the request; or, if the request is made on behalf of an organization or other entity, the signature of a responsible official of the organization or other entity.

Dated: July 28, 2003.
Thomas Voltaggio,
Acting Regional Administrator, EPA, Region III.

[FR Doc. 03-20018 Filed 8-5-03; 8:45 am]

BILLING CODE 6560-50-P